DEPARTMENT OF COMMERCE

National Oceanic and Atmospheric Administration

[RTID 0648-XC363]

Marine Mammals; File No. 26226

AGENCY: National Marine Fisheries Service (NMFS), National Oceanic and Atmospheric Administration (NOAA), Commerce.

ACTION: Notice; receipt of application.

SUMMARY: Notice is hereby given that Robert DiGiovanni, Jr., Atlantic Marine Conservation Society, P.O. Box 932, Hampton Bays, NY 11946, has applied in due form for a permit to conduct research on 38 species of marine mammals including endangered blue (Balaenoptera musculus), fin (B. physalus), North Atlantic right (Eubalaena glacialis), sei (B. borealis), and sperm (Physeter macrocephalus) whales.

DATES: Written, telefaxed, or email comments must be received on or before October 13, 2022.

ADDRESSES: The application and related documents are available for review by selecting “Records Open for Public Comment” from the “Features” box on the Applications and Permits for Protected Species (APPS) home page, https://apps.nmfs.noaa.gov, and then selecting File No. 26226 from the list of available applications. These documents are also available upon written request via email to NMFS.Pr1Comments@noaa.gov.

Written comments on this application should be submitted via email to NMFS.Pr1Comments@noaa.gov. Please include File No. 26226 in the subject line of the email comment.

Those individuals requesting a public hearing should submit a written request via email to NMFS.Pr1Comments@noaa.gov. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to study 34 cetacean species and four pinniped species in U.S waters of the Atlantic Ocean from Maine to Virginia. Researchers seek to (1) document marine mammal seasonal occurrence and distribution, (2) collect baseline data to maintain comparative long-term data sets to evaluate changes in species trends, and (3) identify and document natural and anthropogenic threats to marine mammals. Researchers would conduct manned aerial surveys and vessel surveys, including operation of an unmanned aircraft system (UAS), for counts, behavioral observations, photography, and photo-identification of marine mammals. Researchers would also conduct ground surveys of pinnipeds for counts, scat collection, remote video monitoring, observations, photography or photo-identification, and UAS operations. Take numbers for each species can be found in the application's take table. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 8, 2022.
Julia M. Harrison,
Chief, Permits and Conservation Division, Office of Protected Resources, National Marine Fisheries Service.

[FR Doc. 2022-19758 Filed 9-12-22; 8:45 am]

BILLING CODE 3510-22-P